DEPARTMENT OF TRANSPORTATION

Federal Aviation Administration

14 CFR Part 39

[Docket No. FAA-2007-27335; Directorate Identifier 2006-NM-291-AD; Amendment 39-14962; AD 2007-05-01]

RIN 2120-AA64

Airworthiness Directives; Construcciones Aeronauticas, S.A., (CASA) Model C-212 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as follows:

On 23 November 2006, Emergency Airworthiness Directive 2006-0351-E was published requiring an inspection to be performed on C-212 aeroplanes having been used for Maritime Patrol or other similar low altitude operations, due to the fact that, after initial examination of the evidences of a recent C-212 Maritime Patrol aircraft accident, cracks had been found in the centre wing lower skin at STA Y=1030. At the time of the accident, the aircraft had accumulated 17,000 flight hours and 7,300 flight cycles. The cracks were suspected to be caused by fatigue.

After a more detailed examination in the laboratory, it has been determined that the initiation of the cracks was produced by fretting.

* * * * *

The above mentioned cracks, if not timely detected, could lead to reduced structural integrity of the aircraft. * * *

* * * * *

This AD requires actions that are intended to address the unsafe condition.

DATES: This AD becomes effective March 14, 2007.

The Director of the Federal Register approved the incorporation by reference of a certain publication listed in this AD as of March 14, 2007.

We must receive comments on this AD by March 29, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal Rulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this AD, the regulatory evaluation, any comments received, and other information. The street address for the Docket Office (telephone (800) 647-5227) is in the ADDRESSES section. Comments will be available in the AD docket shortly after receipt.

FOR FURTHER INFORMATION CONTACT: Shahram Daneshmandi, Aerospace Engineer, International Branch, ANM-116, FAA, Transport Airplane Directorate, 1601 Lind Avenue, SW., Renton, Washington 98057-3356; telephone (425) 227-1112; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the Technical Agent for the Member States of the European Community, has issued EASA Emergency Airworthiness Directive 2006-0365-E, dated December 4, 2006 (referred to after this as “the MCAI”), to correct an unsafe condition for the specified products. The MCAI states:

On 23 November 2006, Emergency Airworthiness Directive 2006-0351-E was published requiring an inspection to be performed on C-212 aeroplanes having been used for Maritime Patrol or other similar low altitude operations, due to the fact that, after initial examination of the evidences of a recent C-212 Maritime Patrol aircraft accident, cracks had been found in the centre wing lower skin at STA Y=1030. At the time of the accident, the aircraft had accumulated 17,000 flight hours and 7,300 flight cycles. The cracks were suspected to be caused by fatigue.

After a more detailed examination in the laboratory, it has been determined that the initiation of the cracks was produced by fretting.

The subject element is identified in Ref. 1 (C-212 Supplemental Inspection Document (SID) C-212-PV-02-SID) as a Principal Structural Element (PSE) with No. 57.212.06 and requested to be inspected at a threshold of 20,000 landings (subject to some operational constraints defined in Ref. 1) in accordance with the inspection method and sequence described in Ref. 2 (C-212 Supplemental Inspection Procedures (SIP) C-212-PV-02-SIP), Section 57-10-03.

Ref. 1 document was made mandatory by DGAC-Spain Airworthiness directive Nr. 02/88 (current status of that AD is revision 3, dated 4 February 2004).

Inspection threshold as per AD 02/88 Rev. 3 remains valid and relevant inspections have to be performed in addition to the requirements of this Emergency Airworthiness Directive (EAD).

The above mentioned cracks, if not timely detected, could lead to reduced structural integrity of the aircraft. This EAD, which supersedes EASA EAD 2006-0351-E, is intended to ensure that no other C-212 aircraft could be affected by this problem, by mandating a one time inspection of the subject area, in accordance with the requirements under the paragraph “Compliance” of this EAD (EASA EAD 2006-0365-E).

Furthermore, it has been determined that a Non Destructive Inspection (NDI) performed in accordance with Ref. 2, Section 57-10-03 could not be sufficient to detect cracks initiated by fretting. A complementary inspection procedure has been defined, and is also required under the paragraph “Compliance” of this EAD (EASA EAD 2006-0365-E).

The corrective action includes a one-time inspection for cracks, and repair if necessary. You may obtain further information by examining the MCAI in the AD docket.

Relevant Service Information

EADS-CASA has issued All Operator Letter 212-018, Revision 1, dated December 1, 2006. The actions described in this service information are intended to correct the unsafe condition identified in the MCAI.

FAA's Determination and Requirements of this AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because after a recent C-212 Maritime Patrol aircraft accident, fatigue cracks were found in the center wing lower skin at STA Y=1030. This cracking could lead to reduced structural integrity of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-27335; Directorate Identifier 2006-NM-291-AD” at the beginning of your comments. We specifically invite comments on the overall regulatory, economic, environmental, and energy aspects of this AD. We will consider all comments received by the closing date and may amend this AD because of those comments.

We will post all comments we receive, without change, to http://dms.dot.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-05-01 Construcciones Aeronauticas, S.A. (CASA): Amendment 39-14962. Docket No. FAA-2007-27335; Directorate Identifier 2006-NM-291-AD.

Effective Date

(a) This airworthiness directive (AD) becomes effective March 14, 2007.

Affected ADs

(b) AD 96-07-14, amendment 39-9564, is related to this AD.

Applicability

(c) This AD applies to Construcciones Aeronauticas, S.A., (CASA) Model C-212 airplanes; all series, all serial numbers; certificated in any category.

Subject

(d) Wings.

Reason

(e) The mandatory continued airworthiness information (MCAI) states:

On 23 November 2006, Emergency Airworthiness Directive 2006-0351-E was published requiring an inspection to be performed on C-212 aeroplanes having been used for Maritime Patrol or other similar low altitude operations, due to the fact that, after initial examination of the evidences of a recent C-212 Maritime Patrol aircraft accident, cracks had been found in the centre wing lower skin at STA Y=1030. At the time of the accident, the aircraft had accumulated 17,000 flight hours and 7,300 flight cycles. The cracks were suspected to be caused by fatigue.

After a more detailed examination in the laboratory, it has been determined that the initiation of the cracks was produced by fretting.

The subject element is identified in Ref. 1 (C-212 Supplemental Inspection Document (SID) C-212-PV-02-SID) as a Principal Structural Element (PSE) with No. 57.212.06 and requested to be inspected at a threshold of 20,000 landings (subject to some operational constraints defined in Ref. 1) in accordance with the inspection method and sequence described in Ref. 2 (C-212 Supplemental Inspection Procedures (SIP) C-212-PV-02-SIP), Section 57-10-03.

Ref. 1 document was made mandatory by DGAC-Spain Airworthiness directive Nr. 02/88 (current status of that AD is revision 3, dated 4 February 2004).

Inspection threshold as per AD 02/88 Rev. 3 remains valid and relevant inspections have to be performed in addition to the requirements of this Emergency Airworthiness Directive (EAD).

The above mentioned cracks, if not timely detected, could lead to reduced structural integrity of the aircraft. This EAD, which supersedes EASA EAD 2006-0351-E, is intended to ensure that no other C-212 aircraft could be affected by this problem, by mandating a one-time inspection of the subject area, in accordance with the requirements under the paragraph “Compliance” of this EAD (EASA EAD 2006-0365-E).

Furthermore, it has been determined that a Non Destructive Inspection (NDI) performed in accordance with Ref. 2, Section 57-10-03 could not be sufficient to detect cracks initiated by fretting. A complementary inspection procedure has been defined, and is also required under the paragraph “Compliance” of this EAD (EASA EAD 2006-0365-E).

The corrective action includes a one-time inspection for cracks, and repair if necessary.

Actions and Compliance

(f) Unless already done, do the following actions.

(1) For airplanes used for maritime operations and all other airplanes on which the operator cannot positively determine that the airplanes have not been flown more than ten percent of flights at altitudes below 3,000 feet as of the effective date of this AD: Perform a Non-Destructive Inspection (NDI) and a complementary NDI for cracks at the applicable time specified in paragraph (f)(1)(i), (f)(1)(ii), or (f)(1)(iii) of this AD. Do the inspections as defined in EADS-CASA All Operator Letter 212-018, Revision 1, dated December 1, 2006.

Note: For the purposes of this AD, the term “maritime operations” is defined as airplanes which are used for monitoring certain areas of water.

(i) For airplanes having accumulated 5,600 flight hours or less, and 2,400 landings or less, as of the effective date of this AD: Perform the inspections before the accumulation of 5,600 total flight hours or 2,400 total landings after the effective date of this AD, or within 6 months after the effective date of this AD, whichever occurs latest.

(ii) For airplanes having accumulated more than 5,600 flight hours but less than or equal to 8,000 flight hours, or more than 2,400 landings but less than or equal to 3,600 landings, as of the effective date of this AD: Perform the inspections before the accumulation of 200 flight hours or 100 landings after the effective date of this AD, whichever occurs first.

(iii) For airplanes having accumulated more than 8,000 flight hours or more than 3,600 landings as of the effective date of this AD: Perform the inspections within 14 days after the effective date of this AD.

(2) For airplanes other than those identified in paragraph (f)(1) of this AD: Perform the NDIs at the applicable time specified in paragraph (f)(2)(i), (f)(2)(ii), or (f)(2)(iii) of this AD. Do the inspections as defined in EADS-CASA All Operator Letter 212-018, Revision 1, dated December 1, 2006.

(i) For airplanes having accumulated 10,000 flight hours or less, and 10,000 landings or less as of the effective date of this AD: Perform the inspections before the accumulation of 10,000 total flight hours or 10,000 total landings after the effective date of this AD, or within 6 months after the effective date of this AD, whichever occurs latest.

(ii) For airplanes having accumulated more than 10,000 flight hours but less than or equal to 15,000 flight hours, or more than 10,000 landings but less than or equal to 15,000 landings, as of the effective date of this AD: Perform the inspections before the accumulation of 200 flight hours or 100 landings after the effective date of this AD, whichever occurs first.

(iii) For airplanes having accumulated more than 15,000 flight hours or more than 15,000 landings as of the effective date of this AD: Perform the inspections within 14 days after the effective date of this AD.

(3) No further flight is allowed if any cracks are detected when performing the actions specified in paragraphs (f)(1) and (f)(2) of this AD. Before further flight, repair any cracking found during any inspection required by this AD using a method approved by either the Manager, International Branch, ANM-116, Transport Airplane Directorate, FAA; or the European Aviation Safety Agency (EASA) (or its delegated agent). Within 30 days after cracks are detected, or within 30 days after the effective date of this AD, whichever occurs later, send a detailed report of the findings (both positive and negative) of the inspections required by paragraph (f) of this AD to EADS-CASA for evaluation at the following address: EADS-CASA, Military Transport Aircraft Division, Integrated Customer Services, Technical Services, Avenida de Aragon 404, 28022-Madrid, Spain; telephone 34-91-624-6306; fax 34-91-585-5505. E-mail: MTA, TechnicalService@casa.eads.net. In any case, a confirmation of the accomplishment of this inspection is required to be sent to EADS-CASA.

FAA AD Differences

Note: This AD differs from the MCAI and/or service information as follows:

(1) Compliance Time: For certain airplanes, the compliance time required by the MCAI or service information for performing the non-destructive inspections is before further flight; however, to avoid inadvertently grounding airplanes, this AD requires performing those inspections within 14 days after the effective date of this AD.

(2) Repair: Although the MCAI or service information does not include a repair procedure for cracking, this AD requires the repair of any cracking per the FAA, EASA, or its delegated agent.

Other FAA AD Provisions

(g) The following provisions also apply to this AD:

(1) Alternative Methods of Compliance (AMOCs): The Manager, International Branch, ANM-116, has the authority to approve AMOCs for this AD, if requested using the procedures found in 14 CFR 39.19. Send information to ATTN: Shahram Daneshmandi, Aerospace Engineer; 1601 Lind Avenue, SW., Renton, WA 98057-3356; telephone (425) 227-1112; fax (425) 227-1149. Before using any AMOC approved in accordance with § 39.19 on any airplane to which the AMOC applies, notify the appropriate principal inspector in the FAA Flight Standards Certificate Holding District Office. Before using any AMOC approved in accordance with § 39.19 on any airplane to which the AMOC applies, notify the appropriate principal inspector in the FAA Flight Standards Certificate Holding District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Emergency Airworthiness Directive 2006-0365-E, dated December 4, 2006; and EADS-CASA All Operator Letter 212-018, Revision 1, dated December 1, 2006, for related information.

Material Incorporated by Reference

(i) You must use EADS-CASA All Operator Letter 212-018, Revision 1, dated December 1, 2006, to do the actions required by this AD, unless the AD specifies otherwise.

(1) The Director of the Federal Register approved the incorporation by reference of this service information under 5 U.S.C. 552(a) and 1 CFR part 51.

(2) For service information identified in this AD, contact Construcciones Aeronauticas, S.A., Getafe, Madrid, Spain.

(3) You may review copies at the FAA, Transport Airplane Directorate, 1601 Lind Avenue, SW., Renton, Washington 98057-3356; or at the National Archives and Records Administration (NARA). For information on the availability of this material at NARA, call (202) 741-6030, or go to: http://www.archives.gov/federal-register/cfr/ibr-locations.html.

Issued in Renton, Washington, on February 16, 2007.
Ali Bahrami,
Manager, Transport Airplane Directorate, Aircraft Certification Service.

[FR Doc. E7-3164 Filed 2-26-07; 8:45 am]

BILLING CODE 4910-13-P